ENVIRONMENTAL PROTECTION AGENCY

40 CFR Part 52

[EPA-R03-OAR-2020-0157; FRL-10012-73-Region 3]

Air Plan Approval; Pennsylvania; Allegheny County Area Attainment Plan for the 2012 Fine Particulate Matter National Ambient Air Quality Standard; Reopening of Comment Period

AGENCY: Environmental Protection Agency (EPA).

ACTION: Proposed rule; reopening of the comment period.

SUMMARY: The Environmental Protection Agency (EPA) is reopening the comment period for a document published in the Federal Register on June 12, 2020. EPA is reopening the comment period based on the Clean Air Council's request for a 30-day extension. Clean Air Council's request seeks an extension of the comment period until August 13, 2020.

DATES: The comment period for the proposed rule published June 12, 2020 (85 FR 35852), is reopened. The EPA must receive comments on or before August 13, 2020.

ADDRESSES: Submit your comments, identified by Docket ID No. EPA-R03-OAR-2020-0157 at https://www.regulations.gov, or via email to spielberger.susan@epa.gov. For comments submitted at Regulations.gov, follow the online instructions for submitting comments. Once submitted, comments cannot be edited or removed from Regulations.gov. For either manner of submission, EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods for comments on this proposed approval of the Allegheny County Area PM2.5 plan, please contact the person identified in the FOR FURTHER INFORMATION CONTACT section. For the full EPA public comment policy, information about CBI or multimedia submissions, and general guidance on making effective comments, please visit http://www.epa.gov/dockets/commenting-epa-dockets.

FOR FURTHER INFORMATION CONTACT: Brian Rehn, Planning & Implementation Branch (3AD30), Air & Radiation Division, U.S. Environmental Protection Agency, Region III, 1650 Arch Street, Philadelphia, Pennsylvania 19103. The telephone number is (215) 814-2176. Mr. Rehn can also be reached via electronic mail at rehn.brian@epa.gov.

SUPPLEMENTARY INFORMATION: EPA proposed to approve portions of a state implementation plan (SIP) revision submitted on September 30, 2019 by the Pennsylvania Department of Environmental Protection (PADEP) on behalf of the Allegheny County Health Department (ACHD). The SIP submittal (also referred to as “the Allegheny County PM2.5 Plan”) addresses Clean Air Act (CAA or “the Act”) requirements for the 2012 annual fine particulate matter (PM2.5) national ambient air quality standards (NAAQS or “standards”) in the Allegheny County Moderate PM2.5 nonattainment area (“Allegheny County area”). EPA's June 12, 2020 document proposed to fully approve all elements of the plan except for those addressing contingency measure requirements and motor vehicle emissions budgets, which EPA proposed to conditionally approve.

EPA is reopening the comment period based on a request by Clean Air Council for a 30-day extension of the comment period. Clean Air Council's request, which is in the docket ¹ for this matter, seeks an extension of the comment period until August 13, 2020. Their justification for such an extension included the complexity of the plan and EPA's proposed action, substantial changes to the plan made by ACHD following public comment at the local level, and the fact that EPA's proposed rule's July 13, 2020 close of comment period occurs at a similar time as those of several other state and Federal actions related to air quality in the area, for which comments are due on or around the same time. After reviewing these arguments, EPA has decided to reopen the comment period to August 13, 2020. All comments received on or before August 13, 2020 will be entered into the public record and considered by EPA before taking final action on the proposed rule. Comments submitted between the close of the original comment period and the re-opening of this comment period will be accepted and considered.

¹ https://regulations.gov, Docket ID No. EPA-R03-OAR-2020-0157.

Dated: July 17, 2020.
Cosmo Servidio,
Regional Administrator, Region III.

[FR Doc. 2020-15870 Filed 7-30-20; 8:45 am]

BILLING CODE 6560-50-P